FEDERAL COMMUNICATIONS COMMISSION

[FR ID 300448 ]

Sunshine Act; Open Commission Meeting Thursday, June 26, 2025

June 18, 2025.

The Federal Communications Commission will hold an Open Meeting on the subjects listed below on Thursday, June 26, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Media | Title: Revisions to Cable Television Rate Regulations (MB Docket No. 02-144); Implementation of Sections of the Cable Television Consumer Protection and Competition Act of 1992: Rate Regulation (MM Docket No. 92-266 and MM Docket No. 93-215); Adoption of Uniform Accounting System for the Provision of Regulated Cable Service (CS Docket No. 94-28). Summary: The Commission will consider a Report and Order that would promote competition and economic growth by simplifying and streamlining burdensome cable rate regulations, eliminating unnecessary forms and rules, deregulating certain cable equipment and small cable systems, limiting regulation to residential subscribers, and otherwise reducing regulatory burdens.
2 | Broadband Data Task Force | Title: Establishing the Digital Opportunity Data Collection (WC Docket No. 19-195); Modernizing the FCC Form 477 Data Program (WC Docket No. 11-10). Summary: The Commission will consider a Report and Order that would eliminate the professional engineer certification requirement for the biannual Broadband Data Collection filings under section 1.7004(d) of the Commission's rules and instead allow the biannual filings to be certified by a qualified engineer that has relevant minimum experience and education.
3 | Consumer and Governmental Affairs | Title: Telecommunications Relay Services and Speech-to-Speech Services for Individuals with Hearing and Speech Disabilities (CG Docket No. 03-123); T-Mobile Accessibility Petition for Rulemaking to Amend 47 CFR 64.604(b)(1) to Eliminate the Requirement that TTY-Based Relay Service be Capable of Communicating with ASCII Format. Summary: The Commission will consider a Notice of Proposed Rulemaking proposing to delete a provision in its rules that requires telecommunications relay services providers to support the now obsolete ASCII transmission format.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission
Marlene Dortch,
Secretary.

[FR Doc. 2025-11569 Filed 6-20-25; 4:15 pm]

BILLING CODE 6712-01-P